DEPARTMENT OF ENERGY

Federal Energy Regulatory Commission

[Docket No. ER04-928-000]

California Independent System Operator Corporation; Notice of Availability of Revised Summary Template

July 20, 2004.

1. Take notice that the template issued by Commission staff on July 15, 2004, contained an error. Staff is therefore issuing a revised template for filing information on Existing Transmission Contracts (ETCs). The revised optional template for filing ETC information is available on http://www.ferc.gov under “What's New.”

2. The error in the original template affected responses to Questions 6 and 10. Selecting a radio button in response to either question nullified any response selected for the other question. The format of the template is otherwise unchanged.

3. Summary ETC information should be submitted using the Commission's electronic filing system (eFiling link at http://www.ferc.gov). Parties filing supplemental information should also use the eFiling system, provided the material is not restricted from publication and meets the maximum file number and file size restrictions for electronic filing.

4. All submissions are due by 5 p.m. Eastern time on July 23, 2004.¹

¹ This date was clarified by an Errata Notice issued on July 13, 2004 in this proceeding.

Linda Mitry,
Acting Secretary.

[FR Doc. E4-1646 Filed 7-22-04; 8:45 am]

BILLING CODE 6717-01-P